DEPARTMENT OF COMMERCE

Patent and Trademark Office

Agency Information Collection Activities; Submission to the Office of Management and Budget (OMB) for Review and Approval; Comment Request; Representative and Address Provisions

The United States Patent and Trademark Office (USPTO) will submit the following information collection request to the Office of Management and Budget (OMB) for review and clearance in accordance with the Paperwork Reduction Act of 1995, on or after the date of publication of this notice. The USPTO invites comment on this information collection renewal, which helps the USPTO assess the impact of its information collection requirements and minimize the public's reporting burden. Public comments were previously requested via the Federal Register on September 7, 2021 during a 60-day comment period. This notice allows for an additional 30 days for public comments.

Agency: United States Patent and Trademark Office, Department of Commerce.

Title: Representative and Address Provisions.

OMB Control Number: 0651-0035.

Form Number(s): (AIA = American Invents; SB = Specimen Book).

• PTO/AIA/80; PTO/SB/80 (Power of Attorney to Prosecute Applications Before the USPTO)

• PTO/AIA/81 (Power of Attorney to One or More of the Joint Inventors and Change of Correspondence Address)

• PTO/SB/81 (Power of Attorney or Revocation of Power of Attorney with a New Power of Attorney and Change of Correspondence Address)

• PTO/AIA/81A; PTO/SB/81A (Patent—Power of Attorney or Revocation of Power of Attorney with a New Power of Attorney and Change of Correspondence Address)

• PTO/AIA/81B (Reexamination or Supplemental Examination—Patent Owner Power of Attorney or Revocation of Power of Attorney With a New Power of Attorney and Change of Correspondence Address for Reexamination or Supplemental Examination and Patent)

• PTO/SB/81B (Reexamination—Patent Owner Power of Attorney or Revocation of Power of Attorney with a New Power of Attorney and Change of Correspondence Address)

• PTO/SB/81C (Reexamination—Third Party Requester Power of Attorney or Revocation of Power of Attorney with a New Power of Attorney and Change of Correspondence Address)

• PTO/AIA/82A; PTO/AIA/82B; PTO/AIA/82C (Transmittal for Power of Attorney To One Or More Registered Practitioners/Power Of Attorney By Applicant)

• PTO/AIA/83; PTO/SB/83 (Request for Withdrawal as Attorney or Agent and Change of Correspondence Address)

• PTO/SB/124 (Request for Customer Number Data Change)

• PTO/SB/125 (Request for Customer Number)

• PTO/2248 (Request to Update a PCT Application with a Customer Number)

Type of Review: Extension and revision of a currently approved information collection.

Estimated Number of Respondents: 184,743 respondents per year.

Estimated Number of Responses: 226,573 responses per year.

Average Hour per Response: The USPTO estimates that it takes the public approximately between 0.2 hours (12 minutes) and 1.5 hours (90 minutes) to submit the information in this information collection, including the time to gather the necessary information, prepare the appropriate form or document, and submit the completed item to the USPTO.

Estimated Total Annual Respondent Burden Hours: 111,104 hours per year.

Estimated Total Annual Non-Hour Cost Burden: $26,695 per year.

Needs and Uses: The public uses this information collection to grant or revoke power of attorney, to withdraw as attorney or agent of record, to authorize a practitioner to act in a representative capacity, to request a Customer Number, and to change the data associated with a Customer Number. This information collection is necessary so that the USPTO knows who is authorized to take action in an application, patent, or reexamination proceeding and where to send correspondence regarding an application, patent, or reexamination proceeding. In this notice, the USPTO has updated and slightly revised its estimated numbers from those originally published in the 60-day notice.

Affected Public: Private sector; individuals or households.

Frequency: On occasion.

Respondent's Obligation: Required to obtain or retain benefits.

This information collection request may be viewed at www.reginfo.gov. Follow the instructions to view Department of Commerce, USPTO information collections currently under review by OMB.

Written comments and recommendations for this information collection should be submitted within 30 days of the publication of this notice on the following website www.reginfo.gov/public/do/PRAMain. Find this particular information collection by selecting “Currently under 30-day Review—Open for Public Comments” or by using the search function and entering either the title of the information collection or the OMB Control Number 0651-0035.

Further information can be obtained by:

• Email: InformationCollection@uspto.gov. Include “0651-0035 information request” in the subject line of the message.

• Mail: Kimberly Hardy, Office of the Chief Administrative Officer, United States Patent and Trademark Office, P.O. Box 1450, Alexandria, VA 22313-1450.

Kimberly Hardy,
Information Collections Officer, Office of the Chief Administrative Officer, United States Patent and Trademark Office.

[FR Doc. 2021-25930 Filed 11-26-21; 8:45 am]

BILLING CODE 3510-16-P